INTERNATIONAL TRADE COMMISSION

[Investigation Nos. 701-TA-631 and 731-TA-1463-1464 (Final)]

Forged Steel Fittings From India and Korea

Determinations

On the basis of the record ¹ developed in the subject investigations, the United States International Trade Commission (“Commission”) determines, pursuant to the Tariff Act of 1930 (“the Act”), that an industry in the United States is materially injured by reason of imports of forged steel fittings from India and Korea, provided for in subheadings 7307.92.30, 7307.92.90, 7307.93.30, 7307.93.60, 7307.93.90, 7307.99.10, 7307.99.30, and 7307.99.50 of the Harmonized Tariff Schedule of the United States, that have been found by the U.S. Department of Commerce (“Commerce”) to be sold in the United States at less than fair value (“LTFV”), and to be subsidized by the government of India.²

¹ The record is defined in § 207.2(f) of the Commission's Rules of Practice and Procedure (19 CFR 207.2(f)).

² Vice Chair Randolph J. Stayin not participating.

Background

The Commission instituted these investigations effective October 23, 2019, following receipt of petitions filed with the Commission and Commerce by Bonney Forge Corporation (“Bonney”), Mount Union, Pennsylvania, and the United Steel, Paper and Forestry, Rubber, Manufacturing, Energy, Allied Industrial and Service Workers International Union (“USW”), Pittsburgh, Pennsylvania. The final phase of the investigations was scheduled by the Commission following notification of preliminary determinations by Commerce that imports of forged steel fittings from India were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on June 19, 2020 (85 FR 37109). In light of the restrictions on access to the Commission building due to the COVID-19 pandemic, the Commission conducted its hearing through written testimony and video conference on October 15, 2020. All persons who requested the opportunity were permitted to participate.

The Commission made these determinations pursuant to §§ 705(b) and 735(b) of the Act (19 U.S.C. 1671d(b) and 19 U.S.C. 1673d(b)). It completed and filed its determinations in these investigations on November 25, 2020. The views of the Commission are contained in USITC Publication 5137 (November 2020), entitled Forged Steel Fittings from India and Korea: Investigation Nos. 701-TA-631 and 731-TA-1463-1464 (Final).

By order of the Commission.
Issued: November 25, 2020.
Jessica Mullan,
Attorney Advisor.

[FR Doc. 2020-26579 Filed 12-1-20; 8:45 am]

BILLING CODE 7020-02-P